DEPARTMENT OF ENERGY

Federal Energy Regulatory Commission

[Docket No. RP02-495-001]

Algonquin LNG, Inc.; Notice of Compliance Filing

October 18, 2002.

Take notice that on October 11, 2002, Algonquin LNG, Inc. (ALNG) tendered for filing as part of its FERC Gas Tariff, First Revised Volume No. 1, Sub Seventh Revised Sheet No. 83, to be effective October 1, 2002.

ALNG states that it is making this filing pursuant to a letter order issued by the Commission in the captioned docket on September 26, 2002. The September 26 order conditionally accepted tariff sheets filed with ALNG's initial compliance filing for implementation of Order No. 587-O, subject to ALNG filing certain explanations. This filing includes the requested explanations and a revised tariff sheet that reflects modifications in accordance with the September 26 order.

ALNG states that copies of its filing have been mailed to all affected customers, state commissions and parties on the Commission's official service list in this proceeding.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-27289 Filed 10-24-02; 8:45 am]

BILLING CODE 6717-01-P